DEPARTMENT OF STATE

[Public Notice: 9291]

In the Matter of the Amendment of the Designation of Islamic State of Iraq and the Levant, Also Known as Islamic State, Also Known as ISIL, Also Known as ISIS, as a Specially Designated Global Terrorist Pursuant to Section 1(b) of Executive Order 13224

Based upon a review of the administrative record assembled in this matter, and in consultation with the Attorney General and the Secretary of the Treasury, I have concluded that there is a sufficient factual basis to find that the Islamic State of Iraq and the Levant uses the additional aliases the Islamic State, ISIL, and ISIS. Therefore, pursuant to Section 1(b) of Executive Order 13224, I hereby amend the designation of the Islamic State of Iraq and the Levant as a Specially Designated Global Terrorist to include the Islamic State, ISIL, and ISIS as aliases.

This determination shall be published in the Federal Register.

Dated: September 21, 2015.
John F. Kerry,
Secretary of State.

[FR Doc. 2015-24892 Filed 9-29-15; 8:45 am]

BILLING CODE 4710-AD-P